Proclamation 9268 of April 30, 2015

Older Americans Month, 2015

By the President of the United States of America

A Proclamation

In America, every person who is willing to work hard and play by the rules should be able to build a life of opportunity and prosperity. We learned this simple truth from our oldest generation—the women and men who relentlessly pursued progress throughout the 20th century. Drivers of enormous change, they have enriched our Nation and bravely defended the values we cherish; they have broken down barriers and blazed pathways for all who followed; and they have raised us all and endowed us with a freer, fairer, more equal world.

After a lifetime of contributions, they have earned our care and respect, and they deserve to live out their years with dignity and independence. Our Nation is strongest when older Americans live comfortably in their golden years and have the opportunity to continue to contribute to the fabric of the country and society they helped to shape. This month, we celebrate the accomplishments and sacrifices of our elders, and we reaffirm our belief that the promise of our Nation extends to Americans of all ages.

The United States is entering a new era, and the face of our Nation is growing older and more diverse. For the next 15 years, thousands of Americans will reach retirement age every day, and by 2030, there will be more than twice as many older Americans as there were at the beginning of this century. This growing population is a tremendous national asset. By changing the way we think and talk about aging—by focusing on the opportunities of aging rather than the limitations—we can work to maximize the potential of this generation and ensure they continue to thrive as they age.

To address the changing landscape of aging and advance policies that help older Americans pursue their fullest measure of happiness, this summer my Administration will host the 2015 White House Conference on Aging. By connecting older Americans, their families, caregivers, advocates, community leaders, and experts, the Conference is an important chance to continue our efforts to safeguard retirement security, promote healthy aging, provide long-term services and support, and protect older Americans from abuse, neglect, and financial exploitation.

This year also marks the 50th anniversary of Medicare, Medicaid, and the Older Americans Act, as well as the 80th anniversary of Social Security. For decades, these landmark achievements have stood as pillars of economic opportunity for millions of Americans and reflected the promise we make to our seniors. As President, I have worked tirelessly to strengthen these programs. Throughout the last half-century, the Older Americans Act has empowered older Americans by upholding their rights and supporting social and nutrition services, as well as a nationwide network of employment, training, and research programs. These vital services help millions of seniors across our Nation. I am also proud of the progress we have made during my Administration to improve Medicare, which provides essential health care and security for older Americans. And I am committed to further strengthening Medicare by bolstering access to care for beneficiaries, encouraging better outcomes, and improving long-term sustainability.

Social Security is one of the most important and successful programs ever established in the United States, and we must make certain it is solvent and viable for the American people, now and in the future. I am fighting to ensure any reforms will protect retirement security for the most vulnerable, including low-income seniors, and maintain the robust disability and survivors' benefits that help families after they have paid into the system. To build on this legacy, I started the myRA program, a new type of savings account that provides additional pathways for Americans to build their nest egg, and I have called for new rules to require financial advisors to put their clients' interests before their own—ensuring all who responsibly prepare for retirement receive the best advice possible.

Our elders forged a bright future for all our Nation's children, and they deserve the best America has to offer. As heirs to their proud legacy, we must reach for the world they have made possible. During Older Americans Month, we lift up all those whose life's work has made ours a little easier, and we recommit to showing them the fullest care, support, and respect of a grateful Nation.

NOW, THEREFORE, I, BARACK OBAMA, President of the United States of America, by virtue of the authority vested in me by the Constitution and the laws of the United States, do hereby proclaim May 2015 as Older Americans Month. I call upon all Americans of all ages to acknowledge the contributions of older Americans during this month and throughout the year.

IN WITNESS WHEREOF, I have hereunto set my hand this thirtieth day of April, in the year of our Lord two thousand fifteen, and of the Independence of the United States of America the two hundred and thirty-ninth.

[FR Doc. 2015-10897

Filed 5-4-15; 11:15 am]

Billing code 3295-F5